ENVIRONMENTAL PROTECTION AGENCY

[FRL-8551-4]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held April 22-24, 2008 at RESOLVE, Washington, DC. The CHPAC was created to advise the Environmental Protection Agency on science, regulations, and other issues relating to children's environmental health.

DATES: The CHPAC will meet on Tuesday, April 22, Wednesday, April 23, and Thursday, April 24, 2008 at RESOLVE.

ADDRESSES: RESOLVE, 1255 23rd Street, NW., Suite 275 Washington, DC.

FOR FURTHER INFORMATION CONTACT: Carolyn Hubbard, Child and Aging Health Protection Division, USEPA, MC 1107A, 1200 Pennsylvania Avenue, NW., Washington, DC 20460, (202) 564-2189, hubbard.carolyn@epa.gov.

SUPPLEMENTARY INFORMATION: The meetings of the CHPAC are open to the public. The CHPAC plenary will meet on Wednesday, April 23 from 9 a.m. to 5:30 p.m., Thursday, April 24 from 8:30 a.m. to 12:30 p.m. The Task Groups will meet Tuesday, April 22 from 9 a.m. to 5:30 p.m. Agenda items include a panel presentation on climate change, an evaluation of the Pediatric Environmental Health Specialty Units and a discussion of chemicals management policy. Draft agenda attached.

Access and Accommodations: For information on access or services for individuals with disabilities, please contact Carolyn Hubbard at 202-564-2189 or hubbard.carolyn@epa.gov. To request accommodation of a disability, please contact Carolyn Hubbard preferably at least 10 days prior to the meeting, to give EPA as much time as possible to process your request.

Dated: March 31, 2008.
Carolyn Hubbard,
Designated Federal Official.

Draft Agenda

Tuesday, April 22, 2008: Task Group Sessions

9-12 Chemicals Management Policy Point People.

10-4:30 Pediatric Environmental Health Specialty Units (PEHSU) Task Group.

4:30-5:30 Task Group Follow-up Work.

Wednesday, April 23, 2008: CHPAC Plenary Session

9-9:30 Welcome, Introduction of New OCHPEE Director, & Agenda Review.

9:30-9:55 Highlights of Recent EPA Activities.

9:55-10 MINI “STRETCH” BREAK.

10-11:05 Panel on Children's Health Implications of Climate Change (Part 1).

11:05-12:10 Panel on Children's Health Implications of Climate Change (Part 2).

12:10-1:10 Lunch (on your own).

1:10-2 Reflections on Children's Health Implications of Climate Change.

2-3 National Children's Study.

3-3:15 Break.

3:15-5 Findings from Pediatric Environmental Health Specialty Units (PEHSU).

5-5:30 Lead NAAQS Next Steps.

5:30-6 Public Comment/Adjourn for the Day.

Thursday, April 24, 2008: CHPAC Plenary Session Continued

8:30-8:35 Check In and Agenda Review.

8:35-9:30 Closure on PEHSU Comment Letter.

9:30-10:15 Healthy School Environments Assessment Tool.

10:15-10:30 Break.

10:30-11:30 Discussion with EPA Regarding Agency Response to CHPAC Comment Letter on Chemicals Management Policy & Other Progress on Children's Health Aspects of Chemicals Management Policy.

11:30-12:10 CHPAC Reflections on Next Steps re: Chemicals Management Policy.

12:10-12:30 Wrap Up/Next Steps.

12:30 Adjourn Plenary.

[FR Doc. E8-7059 Filed 4-3-08; 8:45 am]

BILLING CODE 6560-50-P